DEPARTMENT OF DEFENSE

Department of the Army

Availability of Non-Exclusive, Exclusive License or Partially Exclusive Licensing of U.S. Patent Concerning Large-Scale Production of Polyphenols or Polyaromatic Amines Using Enzyme-Mediated Reactions

AGENCY: Department of the Army, DoD.

ACTION: Notice.

SUMMARY: In accordance with 37 CFR 404.6, announcement is made of the availability for licensing of U.S. Patent No. US 6,444,450 B2 entitled “Large-Scale Production of Polyphenols or Polyaromatic Amines Enzyme-Mediated Reactions” issued September 3, 2002. This patent has been assigned to the United States Government as represented by the Secretary of the Army.

FOR FURTHER INFORMATION CONTACT: Mr. Robert Rosenkrans at U.S. Army Soldier and Biological Chemical Command, Kansas Street, Natick, MA 01760, Phone (508) 233-4928 or e-mail: Robert.Rosenkrans@natick.army.mil.

SUPPLEMENTARY INFORMATION: Any licenses granted shall comply with 35 U.S.C. 209 and 37 CFR part 404.

Luz D. Oritz,
Army Federal Register Liaison Officer.

[FR Doc. 02-23850 Filed 9-19-02; 8:45 am]

BILLING CODE 3710-08-M